DEPARTMENT OF ENERGY

Federal Energy Regulatory Commission

Combined Notice of Filings

Take notice that the Commission has received the following Natural Gas Pipeline Rate and Refund Report filings:

Filings Instituting Proceedings

Docket Numbers: RP13-587-000.

Applicants: Viking Gas Transmission Company.

Description: Semi Annual FLRP—Spring 2013 to be effective 4/1/2013.

Filed Date: 2/27/13.

Accession Number: 20130227-5019.

Comments Due: 5 p.m. ET 3/11/13.

Docket Numbers: RP13-588-000.

Applicants: Natural Gas Pipeline Company of America.

Description: Negotiated Rate—Interstate Power to be effective 3/1/2013.

Filed Date: 2/27/13.

Accession Number: 20130227-5062.

Comments Due: 5 p.m. ET 3/11/13.

Docket Numbers: RP13-589-000.

Applicants: Northwest Pipeline GP.

Description: Northwest Pipeline GP submits tariff filing per 154.204: 2013 Summer Fuel Factor Filing to be effective 4/1/2013.

Filed Date: 2/27/13.

Accession Number: 20130227-5067.

Comments Due: 5 p.m. ET 3/11/13.

Docket Numbers: RP13-590-000.

Applicants: Trailblazer Pipeline Company LLC.

Description: Trailblazer Pipeline Company LLC submits tariff filing per 154.204: Housekeeping to incorporate gas quality into Baseline to be effective 3/1/2013.

Filed Date: 2/27/13.

Accession Number: 20130227-5068.

Comments Due: 5 p.m. ET 3/11/13.

Docket Numbers: RP13-591-000.

Applicants: ANR Pipeline Company.

Description: Fuel Filing 2013 to be effective 4/1/2013.

Filed Date: 2/27/13.

Accession Number: 20130227-5092.

Comments Due: 5 p.m. ET 3/11/13.

Docket Numbers: RP13-592-000.

Applicants: Transcontinental Gas Pipe Line Company.

Description: Negotiated Rates—Eminence Enhancement—Revise Contract Quantities to be effective 2/28/2013.

Filed Date: 2/27/13.

Accession Number: 20130227-5102.

Comments Due: 5 p.m. ET 3/11/13.

Docket Numbers: RP13-593-000.

Applicants: Southern Star Central Gas Pipeline, Inc.

Description: Imbalance Resolution 2013 to be effective 4/1/2013.

Filed Date: 2/28/13.

Accession Number: 20130228-5045.

Comments Due: 5 p.m. ET 3/12/13.

Docket Numbers: RP13-594-000.

Applicants: Dominion Transmission, Inc.

Description: DTI—February 28, 2013 Negotiated Rate Agreements to be effective 3/1/2013.

Filed Date: 2/28/13.

Accession Number: 20130228-5046.

Comments Due: 5 p.m. ET 3/12/13.

Docket Numbers: RP13-595-000.

Applicants: Gulf South Pipeline Company, LP.

Description: Gulf South Pipeline Company, LP submits tariff filing per 154.204: Amendment to Neg Rate Agmt (Sequent 34693-14) to be effective 2/28/2013.

Filed Date: 2/28/13.

Accession Number: 20130228-5053.

Comments Due: 5 p.m. ET 3/12/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-47-002.

Applicants: WBI Energy Transmission, Inc.

Description: NAESB 2.0 Compliance Filing Regarding Removal of EDI/EDM Suspension to be effective 2/27/2013.

Filed Date: 2/27/13.

Accession Number: 20130227-5021.

Comments Due: 5 p.m. ET 3/11/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 28, 2013.
Nathaniel J. Davis, Sr.,
Deputy Secretary.

[FR Doc. 2013-05271 Filed 3-6-13; 8:45 am]

BILLING CODE 6717-01-P